DEPARTMENT OF DEFENSE

Office of the Secretary

Defense Task Force on Sexual Assault in the Military Services

AGENCY: Office of the Under Secretary of Defense (Personnel and Readiness), DoD.

ACTION: Notice of meeting

SUMMARY: Under the provisions of the Federal Advisory Committee Act of 1972 (5 U.S.C., Appendix, as amended), the Government in the Sunshine Act of 1976 (5 U.S.C. 552b, as amended), and 41 CFR 102-3.150, the Department of Defense announces that the following Federal advisory committee meeting of the Defense Task Force on Sexual Assault in the Military Services (hereafter referred to as the Task Force) will take place:

DATES: Thursday, June 25, and Friday, June 26, 2009, 8 a.m. to 4:30 p.m. Central European Summer Time (hereafter referred to as CEST).

ADDRESSES: Naval Support Activity Naples, Italy.

FOR FURTHER INFORMATION CONTACT: Michael Molnar, Deputy to the Executive Director; 2850 Eisenhower Avenue, Suite 100, Alexandria, Virginia 22314; phone (888) 325-6640; fax (703) 325-6710; michael.molnar@wso.whs.mil.

SUPPLEMENTARY INFORMATION: Purpose of the Meeting: The purpose of the meeting is to obtain and discuss information on the Task Force's congressionally mandated task to examine matters related to sexual assault in the Military Services through briefings from, and discussion with, Task Force staff, subject-matter experts, victim testimonials, and comments from the general public including Service Members.

Agenda

Thursday, June 25, 2009

8 a.m.-8:05 a.m. Welcome, Administrative Remarks.

8:05 a.m.-8:10 a.m. Opening Remarks.

8:10 a.m.-8:45 a.m. Plan of the Day.

8:45 a.m.-9 a.m. Break.

9 a.m.-12 p.m. Subcommittee Work.

12 p.m.-1 p.m. Noon Meal.

1 p.m.-1:20 p.m. Cross Check between Subcommittees.

1:20 p.m.-1:30 p.m. Break.

1:30 p.m.-4:10 p.m. Subcommittee Work.

4:10 p.m.-4:30 p.m. Wrap Up.

Friday, June 26, 2009

8 a.m.-8:05 a.m. Welcome, Administrative Remarks.

8:05 a.m.-8:10 a.m. Opening Remarks.

8:10 a.m.-9:10 a.m. Quick Compass Brief.

9:10 a.m.-9:20 a.m. Break.

9:20 a.m.-10:20 a.m. Drill Sergeant and Instructor Brief.

10:20 a.m.-10:30 a.m. Break.

10:30 a.m.-11:30 a.m. Public Comment Period.

11:30 a.m.-12:30 p.m. Noon Meal.

12:30 p.m.-2 p.m. Subcommittee Updates.

2 p.m.-2:15 p.m. Break.

2:15 p.m.-4:15 p.m. Member Discussion on Report Content.

4:15 p.m.-4:30 p.m. Wrap Up.

The public can view meeting updates at www.dtic.mil/dtfsams.

Public's Accessibility to the Meeting: Pursuant to 5 U.S.C. 552b and 41 CFR 102-3.140 through 102-3.165, and the availability of space, this meeting is open to the public. Seating is on a first-come basis.

Committee's Designated Federal Officer: Colonel Cora M. Jackson-Chandler; 2850 Eisenhower Avenue, Suite 100, Alexandria, Virginia 22314; phone (888) 325-6640; fax (703) 325-6710; cora.chandler@wso.whs.mil.

Written Statements: Pursuant to 41 CFR 102-3.105(j) and 102-3.140, and section 10(a) (3) of the Federal Advisory Committee Act of 1972, the public or interested organizations may submit written statements to the Defense Task Force on Sexual Assault in the Military Services about its mission and functions. Written statements may be submitted at any time or in response to the stated agenda of a planned meeting of the Defense Task Force on Sexual Assault in the Military Services.

All written statements shall be submitted to the Designated Federal Officer for the Defense Task Force on Sexual Assault in the Military Services, and this individual will ensure that the written statements are provided to the membership for their consideration. Contact information for the Designated Federal Officer is provided in this notice or can be obtained from the GSA's FACA Database: https://www.fido.gov/facadatabase/public.asp.

Written statements being submitted in response to the agenda mentioned in this notice must be received by the Designated Federal Officer at the listed address above no later than 5 p.m., Eastern Daylight Time (hereafter referred to as EDT), Wednesday, June 17, 2009. Written statements received after this date may not be provided to, or considered by, the Defense Task Force on Sexual Assault in the Military Services until its next meeting.

The Designated Federal Officer will review all timely submissions with the Defense Task Force on Sexual Assault in the Military Services Co-Chairs and ensure they are provided to all members of the Defense Task Force on Sexual Assault in the Military Services before the meeting that is the subject of this notice.

Oral Statements by the Public to the Membership: Members of the public may make an oral presentation to the committee and must notify the Designated Federal Officer no later than 5 p.m. EDT, Wednesday, June 17, 2009. Oral presentations by members of the public will be permitted only on June 26, 2009, from 10:30 a.m. to 11:30 a.m. before the Task Force. Presentations will be limited to ten (10) minutes each. The number of oral presentations to be made will depend on the number of requests received from members of the public and the time allotted. Each person who desires to make an oral presentation must provide the Designated Federal Officer for the Defense Task Force on Sexual Assault in the Military Services with one (1) written copy of the presentation by 5 p.m. EDT, Wednesday, June 17, 2009, and bring 15 written copies of any material that is intended for distribution at the meeting.

Morgan E. Frazier,
Alternate OSD Federal Register Liaison Officer, Department of Defense.

[FR Doc. E9-12503 Filed 5-28-09; 8:45 am]

BILLING CODE 5001-06-P